DEPARTMENT OF JUSTICE

Notice of Lodging of Proposed Consent Decree Under the Comprehensive Environmental Response, Compensation, and Liability Act (“CERCLA”)

On May 6, 2019, the Department of Justice lodged a proposed consent decree with the United States District Court for the District of New Jersey in the lawsuit entitled United States of America, New Jersey Department of Environmental Protection, and Administrator of the New Jersey Spill Compensation Fund v. Ford Motor Co. and the Borough of Ringwood, Civil Action No. 2:19-cv-12157.

The United States seeks reimbursement of response costs incurred under Section 107(a) of the Comprehensive Environmental Response, Compensation, and Liability Act (“CERCLA”) for response actions at or in connection with the release or threatened release of hazardous substances at Operable Unit 2 of the Ringwood Mines/Landfill Superfund Site (the “Site”) in Ringwood, New Jersey.

Under the proposed consent decree, Settling Defendants will remove contaminated soil and install caps at three locations within the Site: The Peters Mine Pit Area, the Cannon Mine Pit Area, and the O'Connor Disposal Area. In conjunction with the soil remediation, the Borough of Ringwood will install a recycling center on the O'Connor Disposal Area. The proposed consent decree requires Ford Motor Company to pay approximately $5.7 million for past response costs of both the United States and the State of New Jersey. The proposed consent decree will resolve the United States' CERCLA claims alleged in this action, and the New Jersey Department of Environmental Protection's Spill Act claims alleged in this action. The proposed consent decree will not resolve claims related to groundwater contamination at the Site, which will be addressed at a future point.

On May 9, 2019, the Department of Justice published a notice in the Federal Register opening a public comment on the consent decree for a period of sixty (60) days, through July 8, 2019. By this notice, the Department of Justice is extending the public comment by an additional twenty-one (21) days, through July 29, 2019. Comments should be addressed to the Assistant Attorney General, Environment and Natural Resources Division, Environmental Enforcement Section, and should refer to United States of America, New Jersey Department of Environmental Protection, and Administrator of the New Jersey Spill Compensation Fund v. Ford Motor Co. and the Borough of Ringwood, D.J. Ref. No. 90-11-3-830/1. All comments must be submitted no later than July 29, 2019. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $44.25 (25 cents per page reproduction cost) payable to the United States Treasury.

Jeffrey Sands,
Assistant Section Chief, Environmental Enforcement Section, Environment and Natural Resources Division.

[FR Doc. 2019-14480 Filed 7-8-19; 8:45 am]

BILLING CODE 4410-15-P